DEPARTMENT OF LABOR

Employment and Training Administration

[TA-W-55,898]

Glenshaw Glass Company, Glenshaw, PA; Notice of Affirmative Determination Regarding Application for Reconsideration

By application of January 20, 2005, the Glass, Molders, Pottery, Plastics and Allied Workers International Union, Locals 134 and 76, requested administrative reconsideration of the Department of Labor's Notice of Negative Determination Regarding Eligibility To Apply for Worker Adjustment Assistance, applicable to workers of the subject firm. The denial notice was signed on December 1, 2004. The Notice of determination was published in the Federal Register on December 22, 2004 (69 FR 76785).

The petitioner alleges that foreign competition, including the loss of business to foreign manufacturers, contributed to the closure of the subject facility.

The Department carefully reviewed the petitioner's request for reconsideration and has determined that the Department will conduct further investigation based on new information provided by the petitioner and company official.

Conclusion

After careful review of the application, I conclude that the claim is of sufficient weight to justify reconsideration of the Department of Labor's prior decision. The application is, therefore, granted.

Signed at Washington, DC, this 1st day of February 2005.
Elliott S. Kushner,
Certifying Officer, Division of Trade Adjustment Assistance.

[FR Doc. E5-691 Filed 2-18-05; 8:45 am]

BILLING CODE 4510-30-P